DEPARTMENT OF TRANSPORTATION

Federal Aviation Administration

Notice of Intent to Rule on Application 03-03-C-00-ERI To Impose, and Impose and Use the Revenue From a Passenger Facility Charge (PFC) at Erie International Airport—Tom Ridge Field, Erie, PA

AGENCY: Federal Aviation Administration (FAA), DOT.

ACTION: Notice of intent to rule on application.

SUMMARY: The FAA proposes to rule and invites public comment on the application to impose, and impose and use the revenue from a PFC at Erie International Airport—Tom Ridge Field under the provisions of the 49 U.S.C. 40117 and part 158 of the Federal Aviation Regulations (14 CFR part 158).

DATES: Comments must be received on or before date which is 30 days after date of publication in the Federal Register.

ADDRESSES: Comments on this application may be mailed or delivered in triplicate to the FAA at the following address: Ms. Lori Ledebohm, Community Planner/PFC Contact, Harrisburg Airports District Office, 3905 Hartzdale Drive, Suite 508, Camp Hill, PA 17011.

In addition, one copy of any comments submitted to the FAA must be mailed or delivered to Mr. Charles R. McCain Jr. of the Erie International Airport Authority at the following address: 4411 West 12th Street, Erie, PA 16505.

Air carriers and foreign air carriers may submit copies of written comments previously provided to the Erie International Airport Authority under section 158.23 of part 158.

FOR FURTHER INFORMATION CONTACT: Lori Ledebohm, Community Planner/PFC contact, Harrisburg Airports District Office, 3905 Hartzdale Drive, Suite 508, Camp Hill, PA 17011, 717-730-2835. The application may be reviewed in person at this same location.

SUPPLEMENTARY INFORMATION: The FAA proposes to rule and invites public comment on the application to impose, and impose and use the revenue from a PFC at Erie International Airport—Tom Ridge Field under the provisions of the 49 U.S.C. 40117 and part 158 of the Federal Aviation Regulations (14 CFR part 158).

On February 7, 2003, the FAA determined that the application to impose and impose and use the revenue from a PFC submitted by Erie International Airport Authority was substantially complete within the requirements of section 158.25 of part 158. The FAA will approve or disapprove the application, in whole or in part, no later than May 7, 2003.

The following is a brief overview of the application.

Proposed charge effective date: May 1, 2003.

Proposed charge expiration date: January 1, 2005.

Level of the proposed PFC: $4.50.

Total estimated PFC revenue: $1,062,294.

Brief description of proposed project(s):

Impose and Use

Conduct Master Plan, Phase I and II

Install Site Security, Phase II

Command Vehicle

Environmental Assessment for Master Plan

Airfield Access Road

Acquire Orchard Park Mobile Home Estate

Replace HIRL System

Snow Removal Vehicle

Public Safety Vehicles

911 Security Capital Costs

Environmental Assessment for R/W 6-24 Extension

Construct two new passenger loading bridges

ARFF Vehicle

Acquire Runway Friction Tester Vehicle

Administrative Fee

Impose Only

Acquire Land for R/W 6-24 Extension

Design of R/W 6-24 Extension

Snow Removal Equipment

Improve/Rehab Terminal

Class or classes of air carriers which the public agency has requested not be required to collect PFCs: public agency is not excluding any class of carriers.

Any person may inspect the application in person at the FAA office listed above under FOR FURTHER INFORMATION CONTACT and at the FAA regional Airports office located at: Eastern Region, Airports Division, AEA-610, 1 Aviation Plaza, Jamaica, New York 112434.

In addition, any person may, upon request, inspect the application, notice and other documents germane to the application in person at the Erie Municipal Airport Authority.

Issued in Camp Hill, PA on March 3, 2003.
John B. Carter,
Acting Manager, HAR-ADO, Eastern Region.

[FR Doc. 03-5933 Filed 3-11-03; 8:45 am]

BILLING CODE 4910-13-M